DEPARTMENT OF JUSTICE

Drug Enforcement Administration

Manufacturer of Controlled Substances; Notice of Application

Pursuant to § 1301.33(a) of Title 21 of the Code of Federal Regulations (CFR), this is notice that on May 23, 2007, American Radiolabeled Chemical, Inc., 101 Arc Drive, St. Louis, Missouri 63146, made application by renewal to the Drug Enforcement Administration (DEA) to be registered as a bulk manufacturer of the basic classes of controlled substances listed in schedule I and II:

Drug | Schedule
Gamma hydroxybutyric acid (2010) | I
Ibogaine (7260) | I
Lysergic acid diethylamide (7315) | I
Tetrahydrocannabinols (7370) | I
Dimethyltryptamine (7435) | I
1-[1-(2-Thienyl) cyclohexyl]piperidine(7470) | I
Dihydromorphine (9145) | I
Normorphine (9313) | I
Amphetamine (1100) | II
Methamphetamine (1105) | II
Amobarbital (2125) | II
Phencyclidine (7471) | II
Phenylacetone (8501) | II
Cocaine (9041) | II
Codeine (9050) | II
Dihydrocodeine (9120) | II
Oxycodone (9143) | II
Hydromorphone (9150) | II
Ecgonine (9180) | II
Hydrocodone (9193) | II
Meperidine (9230) | II
Metazocine (9240) | II
Dextropropoxyphene, bulk (non-dosage forms)(9273) | II
Morphine (9300) | II
Thebaine (9333) | II
Oxymorphone (9652) | II
Phenazocine (9715) | II
Fentanyl (9801) | II

The company plans to manufacture small quantities of the listed controlled substances as radiolabeled compounds for biochemical research.

Any other such applicant and any person who is presently registered with DEA to manufacture such a substance may file comments or objections to the issuance of the proposed registration pursuant to 21 CFR 1301.33(a).

Any such written comments or objections being sent via regular mail should be addressed, in quintuplicate, to the Drug Enforcement Administration, Office of Diversion Control, Federal Register Representative (ODL), Washington, DC 20537, or any being sent via express mail should be sent to Drug Enforcement Administration, Office of Diversion Control, Federal Register Representative (ODL), 2401 Jefferson Davis Highway, Alexandria, Virginia 22301; and must be filed no later than September 24, 2007.

Dated: July 10, 2007.
Joseph T. Rannazzisi,
Deputy Assistant Administrator, Office of Diversion Control, Drug Enforcement Administration.

[FR Doc. E7-14267 Filed 7-23-07; 8:45 am]

BILLING CODE 4410-09-P